ENVIRONMENTAL PROTECTION AGENCY

[ER-FRL-9023-1]

Environmental Impact Statements; Notice of Availability

Responsible Agency: Office of Federal Activities, General Information (202) 564-7146 or http://www2.epa.gov/nepa.

Weekly receipt of Environmental Impact Statements (EISs).

Filed 09/14/2015 Through 09/18/2015.

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20150265, Final, BR, CA, North Valley Regional Recycled Water Program, review period ends:10/26/2015, Contact: Rain Emerson 559-487-5196.

EIS No. 20150266, Final, USFS, AZ, PROGRAMMATIC—Apache-Sitgreaves National Forests Land Management Plan, review period ends: 12/24/2015, Contact: Tom Greene 928-333-6268.

EIS No. 20150267, Final, USACE, WA, Skokomish River Ecosystem Restoration, review period ends:10/26/2015, Contact: Nancy C. Gleason 206-764-6577.

EIS No. 20150268, Revised Final, USFS, ID, Clear Creek Integrated Restoration Project, review period ends:10/26/2015, Contact: Lois Hill 208-935-4258.

EIS No. 20150269, Final, FHWA, NY, Cross Harbor Freight Program, review period ends: 10/26/2015, Contact: Peter Osborn 518-431-4127.

EIS No. 20150270, Final, FHWA, MN, US Highway 53 from Virginia to Eveleth Minnesota, Contact: Philip Forst 651-291-6110. Under MAP-21 Section 1319, FHWA has issued a single FEIS and ROD. Therefore, the 30-day wait/review period under NEPA does not apply to this action.

EIS No. 20150271, Final, USACE, CA, South San Francisco Bay Shoreline Phase I, review period ends:10/26/2015, Contact: William DeJager 415-503-6866.

EIS No. 20150272, Draft, USFS, ID, Becker Integrated Resource Project, comment period ends: 11/09/2015, Contact: Michael Feiger 208-392-6681.

EIS No. 20150273, Draft, USACE, HI, Ala Wai Canal Project, comment period ends: 11/09/2015, Contact: Derek Chow 808-835-4026.

EIS No. 20150274, Final Supplement, USFS, OR, Motorized Vehicle Use on the Rogue River-Siskiyou National Forest Supplement, review period ends: 11/02/2015, Contact: David Krantz 541-618-2126.

Amended Notices

EIS No. 20150028, Final, USFS, ID, WITHDRAWN—Clear Creek Integrated Restoration Project, review period ends: 03/16/2015, Contact: Lois Hill 208-935-4258.

Revision to FR Notice Published02/20/2015; Officially Withdrawn per request of the submitting agency.

EIS No. 20150200, Second Draft, USFWS, CA, South Bay Salt Pond Restoration Project, Phase 2, comment period ends: 10/30/2015, Contact: Anne Morkill 510-792-0222.

Revision to the FR Notice Published07/24/2015; extending comment period from 9/22/2015 to 10/30/2015.

EIS No. 20150217, Draft, RUS, PR, Arecibo Waste-to-Energy and Resource Recovery Project, comment period ends: 11/12/2015, Contact: Lauren McGee Rayburn 202-695-2540.

Revision to FR Notice Published08/14/2015; extending comment period from 09/28/2015 to 11/12/2015.

Dated: September 22, 2015.
Karin Leff,
Acting Director, NEPA Compliance Division, Office of Federal Activities.

[FR Doc. 2015-24455 Filed 9-24-15; 8:45 am]

BILLING CODE 6560-50-P